ENVIRONMENTAL PROTECTION AGENCY

[EPA-HQ-OW-2019-0143; FRL-10629-01-OMS]

Agency Information Collection Activities; Submission to the Office of Management and Budget for Review and Approval; Comment Request; Treatment of Indian Tribes in a Similar Manner as States for Purposes of Section 303(d) of the Clean Water Act (Renewal)

AGENCY: Environmental Protection Agency (EPA).

ACTION: Notice.

SUMMARY: The Environmental Protection Agency (EPA) has submitted an information collection request (ICR), Treatment of Indian Tribes in a Similar Manner as States for Purposes of Section 303(d) of the Clean Water Act (EPA ICR Number 2553.04 OMB Control Number 2040-0290) to the Office of Management and Budget (OMB) for review and approval in accordance with the Paperwork Reduction Act. This is a proposed extension of the ICR, which is currently approved through March 31, 2023. Public comments were previously requested via the Federal Register on July 19, 2022 during a 60-day comment period. This notice allows for an additional 30 days for public comments.

DATES: Comments may be submitted on or before March 1, 2023.

ADDRESSES: Submit your comments, referencing Docket ID No. EPA-HQ-OW-2019-0143, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Edward Laird, Watershed Restoration, Assessment, and Protection Division (WRAPD), Office of Wetlands, Oceans, and Watersheds, Mail Code: 4503T, Environmental Protection Agency, 1200 Pennsylvania Ave. NW, Washington, DC 20460; telephone number: (202) 566-2848; fax number: (202) 566-1437; email address: laird.edward@epa.gov.

SUPPLEMENTARY INFORMATION: This is a proposed extension of the ICR, which is currently approved through March 31, 2023. An agency may not conduct or sponsor and a person is not required to respond to a collection of information unless it displays a currently valid OMB control number.

Public comments were previously requested via the Federal Register (87 FR 43028) on July 19, 2022 during a 60-day comment period. This notice allows for an additional 30 days for public comments. Supporting documents that explain in detail the information that the EPA will be collecting are available in the public docket for this ICR (Docket ID EPA-HQ-OW-2019-0143). The docket can be viewed online at www.regulations.gov or in person at the EPA Docket Center, WJC West, Room 3334, 1301 Constitution Ave. NW, Washington, DC. The telephone number for the Docket Center is 202-566-1744. For additional information about EPA's public docket visit http://www.epa.gov/dockets.

Abstract: In 2016, EPA issued regulations establishing a process for federally recognized tribes to obtain treatment in a similar manner as states (TAS) for purposes of administrating the water quality restoration provisions of Clean Water Act (CWA) Section 303(d), including establishing lists of impaired waters on their reservations and developing total maximum daily loads (TMDLs). The CWA does not require tribes to administer the CWA Section 303(d) program. However, tribes seeking to be authorized must apply for and be found eligible for TAS through the procedures described in the regulations.

Section 303(d) of the CWA requires states, territories, and authorized tribes to identify and establish a priority ranking for waters that do not meet EPA-approved or promulgated water quality standards (WQS) following the implementation of technology-based controls. For waters so identified, Section 303(d) requires states, territories, and authorized tribes to establish TMDLs in accordance with their priority ranking for those pollutants the Administrator identified as suitable for TMDL calculation. A TMDL is the calculation and allocation to point and nonpoint sources of the maximum amount of a pollutant that a water body can receive and still meet applicable WQS, with a margin of safety.

Form numbers: None.

Respondents/affected entities: Any federally recognized tribe with a reservation.

Respondent's obligation to respond: Voluntary.

Estimated number of respondents: Five.

Frequency of response: Once for initial TAS status, thereafter biennially for lists of impaired waters, and from time to time for TMDLs.

Total estimated burden: 34,757 hours (per year). Burden is defined at 5 CFR 1320.03(b).

Total estimated cost: $2,309,452 (per year). This action does not include annualized capital or operation & maintenance costs.

Changes in estimates: There is no change of hours in the total estimated respondent burden compared with the ICR currently approved by OMB.

Courtney Kerwin,
Director, Regulatory Support Division.

[FR Doc. 2023-01785 Filed 1-27-23; 8:45 am]

BILLING CODE 6560-50-P